DEPARTMENT OF STATE

[Public Notice: 11322]

Notice of Determinations; Culturally Significant Objects Being Imported for Exhibition—Determinations: “Asia Society Triennial: We Do Not Dream Alone (Part 2)” Exhibition

SUMMARY: Notice is hereby given of the following determinations: I hereby determine that certain objects being imported from abroad pursuant to agreements with their foreign owners or custodians for temporary display in the exhibition “Asia Society Triennial: We Do Not Dream Alone (Part 2)” at the Asia Society Museum, New York, New York, and at possible additional exhibitions or venues yet to be determined, are of cultural significance, and, further, that their temporary exhibition or display within the United States as aforementioned are in the national interest. I have ordered that Public Notice of these determinations be published in the Federal Register.

FOR FURTHER INFORMATION CONTACT: Chi D. Tran, Program Administrator, Office of the Legal Adviser, U.S. Department of State (telephone: 202-632-6471; email: section2459@state.gov). The mailing address is U.S. Department of State, L/PD, SA-5, Suite 5H03, Washington, DC 20522-0505.

SUPPLEMENTARY INFORMATION: See also the Federal Register notice for the “Asia Society Triennial: We Do Not Dream Alone (Part 1)” exhibition that was published August 20, 2020, on page 51544 (volume 85, number 162).

The foregoing determinations were made pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, and Delegation of Authority No. 236-3 of August 28, 2000.

Marie Therese Porter Royce,
Assistant Secretary, Educational and Cultural Affairs, Department of State.

[FR Doc. 2021-00950 Filed 1-15-21; 8:45 am]

BILLING CODE 4710-05-P